ENVIRONMENTAL PROTECTION AGENCY

[Petition IV-2003-8; FRL-8255-6]

Clean Air Act Operating Permit Program; Petition for Objection to State Operating Permit for Continental Carbon Company; Phenix City (Russell County), AL

AGENCY: Environmental Protection Agency (EPA).

ACTION: Notice of final order on petition to object to a state operating permit.

SUMMARY: Pursuant to Clean Air Act Section 505(b)(2) and 40 CFR 70.8(d), the EPA Administrator signed an Order, dated September 21, 2006, denying a petition to object to a state operating permit issued by the Alabama Department of Environmental Management (ADEM) to Continental Carbon Company located in Phenix City, Russell County, Alabama. This Order constitutes final action on the petition submitted by Action Marine, Inc.; John Tharpe; the City of Columbus, Georgia; Owen and Mabel Ditchfield; Donald and Carolyn Lang; Alma Chapman; and Lois Baggett (Petitioners). Pursuant to section 505(b)(2) of the Clean Air Act (the Act) any person may seek judicial review of the Order in the United States Court of Appeals for the appropriate circuit within 60 days of this notice under section 307 of the Act.

ADDRESSES: Copies of the final Order, the petition, and all pertinent information relating thereto are on file at the following location: EPA Region 4, Air, Pesticides and Toxics Management Division, 61 Forsyth Street, SW., Atlanta, Georgia 30303-8960. The final Order is also available electronically at the following address: http://www.epa.gov/region07/programs/artd/air/title5/petitiondb/petitions/ continentalcarbon_decision2003.pdf.

FOR FURTHER INFORMATION CONTACT: Kathleen Forney, Air Permits Section, EPA Region 4, at (404) 562-9130 or forney.kathleen@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioners submitted a petition on December 24, 2003, requesting that EPA object to a state title V operating permit issued by ADEM to Continental Carbon. Petitioners maintain that the Continental Carbon permit is inconsistent with the Act because: (1) The public participation procedures associated with its issuance failed to utilize certain local newspapers; and (2) materials related to changes made to the draft permit following public comment were not made readily available to the public.

On September 21, 2006, the Administrator issued an Order denying this petition. The Order explains the reasons behind EPA's conclusion that the Petitioners failed to demonstrate that the Continental Carbon permit is not in compliance with the requirements of the Act on the grounds raised.

Dated: December 5, 2006.
A. Stanley Meiburg,
Deputy Regional Administrator, Region 4.

[FR Doc. E6-21291 Filed 12-13-06; 8:45 am]

BILLING CODE 6560-50-P